DEPARTMENT OF STATE

[Public Notice 6130]

Certification Concerning the Bolivian Military Under the Foreign Operations, Export Financing, and Related Programs Appropriations Act, 2006 (Pub. L. 109-102), as Carried Forward Under the Revised Continuing Appropriations Resolution, 2007 (Pub. L. 110-5)

Pursuant to the authority vested in me as Deputy Secretary of State, including under the heading “Andean Counterdrug Initiative” in the Foreign Operations, Export Financing, and Related Programs Appropriations Act, 2006 (Pub. L. 109-102), as carried forward under the Revised Continuing Appropriations Resolution, 2007 (Pub. L. 110-5), and State Department Delegation of Authority 245, I hereby certify that the Bolivian military is respecting human rights, and civilian judicial authorities are investigating and prosecuting, with the military's cooperation, military personnel who have been implicated in gross violations of human rights.

This Determination shall be transmitted to the Congress and published in the Federal Register.

Dated: March 4, 2008.
John D. Negroponte,
Deputy Secretary of State, Department of State.

[FR Doc. E8-4965 Filed 3-11-08; 8:45 am]

BILLING CODE 4710-29-P